SMALL BUSINESS ADMINISTRATION

Small Business Investment Company (SBIC) Program: Update to TechNote 9: Guidance for Obtaining a Regulatory Exemption for Overline Investments

AGENCY: Small Business Administration.

ACTION: Notice; request for comments on updated TechNote 9: Guidance for Obtaining a Regulatory Exemption for Overline Investments.

SUMMARY: The Small Business Administration (SBA) intends to update TechNote 9: Guidance for Obtaining a Regulatory Exemption for Overline Investments (TechNote 9) to conform to changes to the overline regulation that have occurred and explain the process SBICs have to follow to obtain SBA's prior written exemption for an overline investment. The SBA welcomes comments from the public on how to achieve these objectives.

DATES: Comments on TechNote 9 must be submitted within 30 days from the date of this public notice.

ADDRESSES: Submit your comments, identified by Docket ID No. SBA-2014-0010, at www.regulations.gov. Comments may only be submitted at this Web address; follow the instructions on the Web site for submitting comments.

All comments received will be included in the public docket without change and will be available online at www.regulations.gov. All submissions, including attachments and other supporting materials, will become part of the public record and subject to public disclosure. Sensitive information and information that you consider to be Confidential Business Information or otherwise protected should not be included. Submissions will not be edited to remove any identifying or contact information.

FOR FURTHER INFORMATION CONTACT: Paul Salgado, Office of SBIC Operations, at (202) 205-7605.

SUPPLEMENTARY INFORMATION: The SBIC Program is one of the financial assistance programs available through SBA. The SBIC Program was established under the Small Business Investment Act of 1958, as amended. SBICs are privately owned and managed investment funds, licensed and regulated by SBA, that use their own capital plus funds borrowed with an SBA guarantee to make equity and debt investments in qualifying small businesses.

In April 2002, SBA issued TechNote 9 to establish general guidelines regarding overline investments and to describe the process for obtaining SBA's prior written approval for overline investments pursuant to the SBA regulations governing the SBIC Program (13 CFR part 107). Since that time, significant changes to the overline regulations have occurred. In addition, SBICs must now obtain SBA's prior written exemption to make an overline investment. This TechNote 9 updates and replaces the April 2002 TechNote 9 to describe the general changes to the regulation and explain the process SBICs have to follow to obtain SBA's prior written exemption for an overline investment. SBICs are required to follow the procedures in TechNote 9 to obtain approval for an overline investment. The updated TechNote 9 is available at http://www.sba.gov/sites/default/files/files/TechNote_9.pdf. SBA is soliciting comments and recommendations from the public on the updated TechNote 9 and will consider such comments when revising it. The SBA will not issue another notice in the Federal Register but will post the final revised version of the updated TechNote 9 on the SBIC Web site at http://www.sba.gov/sites/default/files/files/SBICTechnote09.pdf.

Authority: 15 U.S.C. 681.

Dated: July 2, 2014.
Javier E. Saade,
Associate Administrator, Office of Investment and Innovation.

[FR Doc. 2014-16166 Filed 7-9-14; 8:45 am]

BILLING CODE 8025-01-P